DEPARTMENT OF TRANSPORTATION

Federal Aviation Administration

Intent To Prepare an Environmental Impact Statement, Panama City-Bay County International Airport, Panama City, Florida

AGENCY: Federal Aviation Administration, DOT.

ACTION: Notice of Intent.

SUMMARY: The Federal Aviation Administration (FAA) is issuing this notice to announce to the public that an Environmental Impact Statement (EIS) will be prepared to consider alternatives to meet forecast growth in aviation demand in the Panama City-Bay County region.

FOR FURTHER INFORMATION CONTACT: Ms. Virginia Lane, Federal Aviation Administration, Orlando Airports District Office, 5950 Hazeltine National Drive, Suite 400, Orlando, FL 32822-5024, 407/812-6331, Extension 29.

SUPPLEMENTARY INFORMATION: The Panama City-Bay County International Airport (PFN), owned and operated by the Panama City-Bay County Airport and Industrial District (Sponsor), is located approximately five miles northwest of the central business district of Panama City, Florida. PFN has two 150-foot wide runways, Runway 5-23 and Runway 14-32. Runway 5-23 measures 4,888 feet in length and is primarily used by general aviation aircraft. Runway 14-32, with a length of 6,304 feet, serves as the primary runway for commercial airline service at PFN.

During the 1990s, an Environmental Assessment was initiated by the Sponsor to consider alternatives to provide an 8,000-foot runway at PFN. This study recommended an extension of Runway 14-32 to the northwest into Goose Bayou. However, the proposed extension would have environmental impacts to Class II waters that are protected under Florida state law. Due to opposition to the runway extension, the Environmental Assessment was deferred in 1998.

With support from the FAA and the Florida Department of Transportation (FDOT), the Sponsor initiated an effort in 1999 to study the feasibility of relocating or expanding the existing airport facilities. The Feasibility Study resulted in a determination that relocation of the airport was technically feasible. In 2000, the Sponsor completed a Site Selection Study to assist the Sponsor in deciding a preferred location of a relocated airport. The Site Selection Study recommended a preferred site, located north of County Road 388, east of State Road 79, south of State Road 20, and west of State Road 77. Relocation of the airport to the preferred site is the Sponsor's proposed project.

On November 7, 2001, the FAA published in the Federal Register a Notice of Intent to prepare an environmental Assessment to consider alternatives to meet forecast growth in aviation demand in the Panama City-Bay County region. Agency and public scoping meetings were held on December 13, 2001. Following review of written comments submitted by agencies and the public, and review of available information regarding the potential for significant environmental impacts, including impacts to 1,400-1,800 acres of wetlands, the FAA has determined that an Environmental Impact Statement (EIS) will be prepared for the project.

Alternatives to be considered in the EIS, in addition to the no action alternative, will include expansion alternatives at the existing airport site, the Sponsor's proposed project to relocate the airport to a new site, and other reasonable alternatives as determined during the FAA's alternatives analysis process. The EIS will evaluate the environmental impacts of all reasonable alternatives, including the evaluation of environmental impacts related to noise, air quality, water quality, land use, wetlands, ecological resources, floodplains, hazardous materials, historic and archaeological resources, environmental justice floodplains, and farmlands.

Questions may be directed to the individual named above under the heading FOR FURTHER INFORMATION CONTACT.

Issued in Orlando, Florida, April 9, 2002.
W. Dean Stringer,
Manager, Orlando Airports Districts Office.

[FR Doc. 02-9853 Filed 4-22-02; 8:45 am]

BILLING CODE 4910-13-M